DEPARTMENT OF COMMERCE

National Oceanic and Atmospheric Administration

50 CFR Parts 222 and 223

[I.D. 101701B]

RIN 0648-AN62

Endangered and Threatened Wildlife; Sea Turtle Conservation Requirements

AGENCY: National Marine Fisheries Service (NMFS), National Oceanic and Atmospheric Administration (NOAA), Commerce.

ACTION: Public hearing notice.

SUMMARY: Notice is hereby given that the National Marine Fisheries Service (NMFS), National Oceanic and Atmospheric Administration (NOAA), Department of Commerce, will hold public hearings for the purpose of receiving comments on the proposed rule to amend the regulations protecting sea turtles to enhance their effectiveness in reducing sea turtle mortality resulting from shrimp trawling in the Atlantic and Gulf Areas of the southeastern United States, published in the Federal Register on October 2, 2001. Turtle excluder devices (TEDs) have proven to be effective at excluding sea turtles from shrimp trawls; however, NMFS has determined that modifications to the design of TEDs need to be made to exclude leatherbacks and large, sexually mature loggerhead and green turtles; several approved TED designs are structurally weak and do not function properly under normal fishing conditions; and modifications to the trynet and bait shrimp exemptions to the TED requirements are necessary to decrease lethal take of sea turtles. These proposed amendments are necessary to protect endangered and threatened sea turtles in the Atlantic and Gulf Areas.

DATES: See SUPPLEMENTARY INFORMATION for specific dates, times and addresses of the hearings.

FOR FURTHER INFORMATION CONTACT: Robert Hoffman (ph. 727-570-5312, fax 727-570-5517, e-mail Robert.Hoffman@noaa.gov), or Therese A. Conant (ph. 301-713-1401, fax 301-713-0376, e-mail Therese.Conant@noaa.gov).

SUPPLEMENTARY INFORMATION: The hearings are scheduled as follows:

1. October 24, 2001 at 7 p.m. to 9 p.m., Madeira Beach, FL

2. November 1, 2001, at 7 p.m. to 9 p.m., Charleston, SC

3. November 5, 2001, at 7 p.m. to 9 p.m., Beaufort, NC

4. November 5, 2001, at 7 p.m. to 9 p.m., Kenner, LA

5. November 6, 2001, at 7 p.m. to 9 p.m., Brunswick, GA

6. November 7, 2001, at 7 p.m. to 9 p.m., Galveston, TX

7. November 8, 2001, at 7 p.m. to 9 p.m., Port Isabel, TX

8. November 9, 2001, at 7 p.m. to 9 p.m., Cocoa, FL

The hearings will be held in the following locations:

1. Madeira Beach City Hall, 300 Municipal Dr., Madeira Beach, FL 33708

2. South Carolina Department of Natural Resources, Marine Resources Research Institute Main Auditorium, 217 Fort Johnson Rd., Charleston, SC 29412

3. Duke Marine Laboratory, I.E. Grey Library Auditorium Building, 135 Duke Marine Lab Rd., Beaufort, NC 28516

4. Airport Hilton, Main Ballroom, 901 Airline Dr., Kenner, LA 70062

5. University of Georgia, Marine Extension Service Office, 715 Bay St., Brunswick, GA 31520

6. Texas A&M University, Classroom Laboratory Building, Room 100, 200 Seawolf Parkway, Galveston, TX 77553

7. Laguna Madre Learning Center at the Port Isabel High School Lecture Hall, Highway 100, Port Isabel, TX 78578

8. Brevard Agricultural Center Auditorium, 3695 Lake Dr., Cocoa, FL 32926

Dated: October 16, 2001.
Wanda L. Cain,
Acting Director, Office of Protected Resources, National Marine Fisheries Service.

[FR Doc. 01-26552 Filed 10-19-01; 8:45 am]

BILLING CODE 3510-22-S